DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of this person are blocked, and U.S. persons are generally prohibited from engaging in transactions with them.

DATES: See SUPPLEMENTARY INFORMATION section for effective date(s).

FOR FURTHER INFORMATION CONTACT: OFAC: Bradley T. Smith, Acting Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On September 21, 2021, OFAC determined that the property and interests in property subject to U.S. jurisdiction of the following person are blocked under the relevant sanctions authority listed below.

Entity

1. SUEX OTC, S.R.O. (a.k.a. “SUCCESSFUL EXCHANGE”), Presnenskaya Embankment, 12, Federation East Tower, Floor 31, Suite Q, Moscow 123317, Russia; Skorepka 1058/8 Stare Mesto, Prague 110 00, Czech Republic (Latin: Skořepka 1058/8 Staré Město, Praha 110 00, Czech Republic); website suex.io; Digital Currency Address—XBT 12HQDsicffSBaYdJ6BhnE22sfjTESmmzKx; alt. Digital Currency Address—XBT 1L4ncif9hh9TnUveqWq77HfWWt6CJWtrnb; alt. Digital Currency Address—XBT 13mnk8SvDGqsQTHbiGiHBXqtaQCUKfcsnP; alt. Digital Currency Address—XBT 1Edue8XZCWNoDBNZgnQkCCivDyr9GEo4x6; alt. Digital Currency Address—XBT 1ECeZBxCVJ8Wm2JSN3Cyc6rge2gnvD3W5K; alt. Digital Currency Address—XBT 1J9oGoAiHeRfeMZeUnJ9W7RpV55CdKtgYE; alt. Digital Currency Address—XBT 1295rkVyNfFpqZpXvKGhDqwhP1jZcNNDMV; alt. Digital Currency Address—XBT 1LiNmTUPSJEd92ZgVJjAV3RT9BzUjvUCkx; alt. Digital Currency Address—XBT 1LrxsRd7zNuxPJcL5rttnoeJFy1y4AffYY; alt. Digital Currency Address—XBT 1KUUJPkyDhamZXgpsyXqNGc3x1QPXtdhgz; alt. Digital Currency Address—XBT 1CF46Rfbp97absrs7zb7dFfZS6qBXUm9EP; alt. Digital Currency Address—XBT 1Df883c96LVauVsx9FEgnsourD8DELwCUQ; alt. Digital Currency Address—XBT bc1qdt3gml5z5n50y5hm04u2yjdphefkm0fl2zdj68; alt. Digital Currency Address—XBT 1B64QRxfaa35MVkf7sDjuGUYAP5izQt7Qi; Digital Currency Address—ETH 0x2f389ce8bd8ff92de3402ffce4691d17fc4f6535; alt. Digital Currency Address—ETH 0x19aa5fe80d33a56d56c78e82ea5e50e5d80b4dff; alt. Digital Currency Address—ETH 0xe7aa314c77f4233c18c6cc84384a9247c0cf367b; alt. Digital Currency Address—ETH 0x308ed4b7b49797e1a98d3818bff6fe5385410370; Organization Established Date 25 Sep 2018; Digital Currency Address—USDT 0x2f389ce8bd8ff92de3402ffce4691d17fc4f6535; alt. Digital Currency Address—USDT 0x19aa5fe80d33a56d56c78e82ea5e50e5d80b4dff; alt. Digital Currency Address—USDT 1KUUJPkyDhamZXgpsyXqNGc3x1QPXtdhgz; alt. Digital Currency Address—USDT 1CF46Rfbp97absrs7zb7dFfZS6qBXUm9EP; alt. Digital Currency Address—USDT 1LrxsRd7zNuxPJcL5rttnoeJFy1y4AffYY; alt. Digital Currency Address—USDT 1Df883c96LVauVsx9FEgnsourD8DELwCUQ; alt. Digital Currency Address—USDT 16iWn2J1McqjToYLHSsAyS6En3QA8YQ91H; Company Number 07486049 (Czech Republic); Legal Entity Number 5299007NTWCC3U23WM81 (Czech Republic) [CYBER2].

Designated pursuant to section l(a)(iii)(B) of E.O. 13694, as amended, for having materially assisted, sponsored, or provided financial, material, or technological support for, or goods or services to or in support of, an activity described in section 1(a)(ii) of E.O. 13694, as amended.

Dated: September 21, 2021.
Bradley T. Smith,
Acting Director, Office of Foreign Assets Control, U.S. Department of the Treasury.

[FR Doc. 2021-20745 Filed 9-23-21; 8:45 am]

BILLING CODE 4810-AL-P